DEPARTMENT OF ENERGY

Federal Energy Regulatory Commission

Combined Notice of Filings #1

Take notice that the Commission received the following electric rate filings:

Docket Numbers: ER11-2664-002.

Applicants: Powerex Corporation.

Description: Powerex Corp submits notice of change in status.

Filed Date: 4/13/12.

Accession Number: 20120417-0202.

Comments Due: 5 p.m. ET 5/4/12.

Docket Numbers: ER12-1554-000.

Applicants: New York Independent System Operator, Inc., Consolidated Edison Company of New York, Inc.

Description: Amended Restated Agreement No 330 between Con Edison and Astoria Energy to be effective 6/16/2012.

Filed Date: 4/17/12.

Accession Number: 20120417-5182.

Comments Due: 5 p.m. ET 5/8/12.

Docket Numbers: ER12-1555-000.

Applicants: High Majestic Interconnection Services, LLC.

Description: Coordination Services Agreement between High Majestic Interconnect and HMI to be effective 6/16/2012.

Filed Date: 4/17/12.

Accession Number: 20120417-5189..

Comments Due: 5 p.m. ET 5/8/12.

Docket Numbers: ER12-1556-000.

Applicants: High Majestic Interconnection Services, LLC.

Description: CSA Between High Majestic Interconnect and HMII to be effective 6/16/2012.

Filed Date: 4/17/12.

Accession Number: 20120417-5190.

Comments Due: 5 p.m. ET 5/8/12.

Docket Numbers: ER12-1557-000.

Applicants: Southern California Edison Company.

Description: Amended LGIA Manzana Wind LLC, Manzana Wind Project to be effective 6/18/2012.

Filed Date: 4/18/12.

Accession Number: 20120418-5000.

Comments Due: 5 p.m. ET 5/9/12.

Docket Numbers: ER12-1558-000.

Applicants: Southern California Edison Company.

Description: CLGIA and Distribution Service Agmt with Mesa Wind Power Corporation to be effective 4/9/2012.

Filed Date: 4/18/12.

Accession Number: 20120418-5002.

Comments Due: 5 p.m. ET 5/9/12.

Docket Numbers: ER12-1559-000.

Applicants: High Majestic Wind Energy Center, LLC.

Description: CFA Between HMI, HMII, and High Majestic Interconnection to be effective 6/16/2012.

Filed Date: 4/18/12.

Accession Number: 20120418-5052.

Comments Due: 5 p.m. ET 5/9/12.

Docket Numbers: ER12-1560-000.

Applicants: Southern California Edison Company.

Description: Amendment to Interconnection Facilities Agreement with City of Industry to be effective 4/19/2012.

Filed Date: 4/18/12.

Accession Number: 20120418-5107.

Comments Due: 5 p.m. ET 5/9/12.

Docket Numbers: ER12-1561-000.

Applicants: LDH Rensselaer LLC.

Description: Notice of Succession to be effective 3/31/2012.

Filed Date: 4/18/12.

Accession Number: 20120418-5109.

Comments Due: 5 p.m. ET 5/9/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2012.
Nathaniel J. Davis, Sr.,
Deputy Secretary.

[FR Doc. 2012-9957 Filed 4-24-12; 8:45 am]

BILLING CODE 6717-01-P